POSTAL SERVICE

39 CFR Part 20

Global Direct—Mexico

AGENCY: Postal Service.

ACTION: Interim rule and request for comment.

SUMMARY: The Postal Service is revising Global Direct—Mexico service to better reflect the domestic postal products offered by the Mexico Postal Administration (SEPOMEX) and to offer U.S. customers a wider range of direct entry products into Mexico. Global Direct—Mexico will offer three main products: Direct Mail (A and B), Letter Mail, and Publications.

EFFECTIVE DATE: October 1, 2000. Comments must be received on or before October 18, 2000.

ADDRESSES: Written comments should be mailed or delivered to the Manager, Pricing, Costing, and Classification, International Business, U.S. Postal Service, 475 L'Enfant Plaza SW., Room 370-IBU, Washington, DC 20260-6500. Copies of all written comments will be available for public inspection between 9 a.m. and 4 p.m., Monday through Friday, in International Business, 10th Floor, 901 D Street SW., Washington, DC.

FOR FURTHER INFORMATION CONTACT: Walter J. Grandjean, (202) 314-7256.

SUPPLEMENTARY INFORMATION: The Postal Service is revising Global Direct—Mexico to better reflect the domestic postal products offered by Mexico Postal Administration and to offer U.S. customers a wider range of direct entry products into Mexico. Global Direct—Mexico will offer three main products: Letter Mail, Direct Mail (A and B), and Publications. There are presort requirements for these services.

Global Direct—Mexico Letter Mail is for personalized communications; correspondence; and transactions such as statements of account, invoices, and financial statements. Items may be in envelopes or other sealed wrappers or may be prepared as self-mailers or double cards. The maximum weight is 1,000 grams (35.3 ounces). The minimum size is 90 millimeters in width and 105 millimeters in length. The maximum size is 140 millimeters in width and 148 millimeters in length. Rates are based on weight and whether the items are post coded.

The rates for Global Direct—Letter Mail are:

Weight of single piece up to: (grams) | Postal coded | Non-postal coded
20 | $0.327 | $0.406
30 | 0.406 | 0.495
40 | 0.420 | 0.510
50 | 0.485 | 0.585
60 | 0.513 | 0.613
70 | 0.578 | 0.688
80 | 0.592 | 0.702
90 | 0.688 | 0.818
100 | 0.702 | 0.832
110 | 0.802 | 0.942
120 | 0.816 | 0.956
130 | 0.830 | 0.970
140 | 0.844 | 0.985
150 | 0.858 | 0.999
160 | 0.873 | 1.013
170 | 0.887 | 1.027
180 | 0.901 | 1.042
190 | 0.915 | 1.056
200 | 0.930 | 1.070
250 | 1.094 | 1.245
300 | 1.165 | 1.316
350 | 1.357 | 1.528
400 | 1.429 | 1.599
450 | 1.611 | 1.802
500 | 1.682 | 1.873
600 | 2.218 | 2.378
700 | 2.360 | 2.521
800 | 2.502 | 2.663
900 | 2.645 | 2.805
1000 | 2.787 | 2.948

Global Direct—Direct Mail is for advertising mail, catalogs, directories, nonregistered publications, printed matter, and merchandise samples. Contents must not be of a personal or confidential nature, but personalized advertising letters are acceptable. Statements of account, invoices, and financial statements must be sent as Letter Mail. Catalogs, publications, brochures, and similar items may be mailed unenclosed. Items mailed in envelopes or wrappers may not be sealed but must be closed with tabs or by similar means. Self-mailers and double cards containing promotional messages must be closed with tabs or by similar means. There are two categories of Mexico Direct Mail, A and B, which are based on weight or size.

Direct Mail A items may weigh up to 1000 grams. The minimum size is 90 millimeters in width and 105 millimeters in length. The maximum size is 140 millimeters in width and 148 millimeters in length. Rates are based on weight. The rates for Global Direct—Mexico Direct Mail A are:

Weight of single piece up to: (grams) | Postal coded | Non-postal coded
20 | $0.226 | $0.350
30 | 0.283 | 0.437
40 | 0.295 | 0.450
50 | 0.308 | 0.513
60 | 0.364 | 0.539
70 | 0.377 | 0.612
80 | 0.389 | 0.625
90 | 0.402 | 0.687
100 | 0.414 | 0.700
110 | 0.471 | 0.917
120 | 0.484 | 0.930
130 | 0.496 | 0.942
140 | 0.509 | 0.955
150 | 0.521 | 0.967
160 | 0.534 | 0.980
170 | 0.546 | 0.992
180 | 0.559 | 1.005
190 | 0.571 | 1.017
200 | 0.584 | 1.030
250 | 0.717 | 1.195
300 | 0.780 | 1.258
350 | 0.904 | 1.411
400 | 0.967 | 1.473
450 | 1.091 | 1.555
500 | 1.154 | 1.618
600 | 1.367 | 1.882
700 | 1.492 | 2.007
800 | 1.617 | 2.132
900 | 1.742 | 2.257
1000 | 1.867 | 2.382

Direct Mail B items must have a minimum weight of 1,000 grams but may not exceed 5,000 grams. The minimum size is 81 millimeters in width and 114 millimeters in length. The maximum size is 324 millimeters in width and 458 millimeters in length. Rates are based on weight. The rates for Global Direct—Mexico Direct Mail B are:

Weight of single piece up to: (grams) | Postal coded
1100 | $3.417
1200 | 3.548
1300 | 3.678
1400 | 3.808
1500 | 3.938
1600 | 4.069
1700 | 4.199
1800 | 4.329
1900 | 4.460
2000 | 4.590
2100 | 5.700
2200 | 5.830
2300 | 5.960
2400 | 6.090
2500 | 6.221
2600 | 6.351
2700 | 6.481
2800 | 6.611
2900 | 6.742
3000 | 6.872
3100 | 7.982
3200 | 8.112
3300 | 8.242
3400 | 8.373
3500 | 8.503
3600 | 8.633
3700 | 8.763
3800 | 8.894
3900 | 9.024
4000 | 9.154
4100 | 10.264
4200 | 10.394
4300 | 10.524
4400 | 10.655
4500 | 10.785
4600 | 10.915
4700 | 11.046
4800 | 11.176
4900 | 11.306
5000 | 11.436

Global Direct—Mexico Publications service is for magazines and other periodical publications which are registered with the government of Mexico and are enclosed in sealed envelopes or wrappers. Publications cannot weigh more than 1,000 grams. The minimum size is 90 millimeters in width and 140 millimeters in length. The maximum length is 609.6 millimeters and the maximum length, width, and thickness combined is 914.4 millimeters. The rates for Global Direct—Mexico Publications are:

Weight of single piece up to: (grams) | Postal coded | Non-postal coded
250 | $0.661 | $1.195
300 | 0.723 | 1.258
350 | 0.874 | 1.411
400 | 0.937 | 1.473
450 | 1.019 | 1.555
500 | 1.081 | 1.618
550 | 1.191 | 1.838
600 | 1.235 | 1.882
650 | 1.447 | 1.963
700 | 1.490 | 2.007
750 | 1.572 | 2.088
800 | 1.615 | 2.132
850 | 1.697 | 2.213
900 | 1.740 | 2.257
950 | 1.822 | 2.338
1000 | 1.865 | 2.382
1050 | 2.107 |
1100 | 2.172 |
1150 | 2.237 |
1200 | 2.301 |
1250 | 2.366 |
1300 | 2.430 |
1350 | 2.495 |
1400 | 2.560 |
1450 | 2.624 |
1500 | 2.689 |

Although the Postal Service is exempted by 39 U.S.C. 410(a) from the advance notice requirements of the Administrative Procedure Act regarding proposed rulemaking (5 U.S.C. 553), the Postal Service invites public comment on the interim rule at the above address.

The Postal Service adopts the following amendments to the International Mail Manual, which is incorporated by reference in the Code of Federal Regulations. See 39 CFR 20.1.

List of Subjects in 39 CFR Part 20

Foreign relations, International postal service.

PART 20—[AMENDED]

1. The authority citation for 39 CFR Part 20 continues to read as follows:

Authority: 5 U.S.C. 552(a); 39 U.S.C. 401, 404, 407, 408.

2. Chapter 6 of the International Mail Manual (IMM) is amended as follows:

6 Special Programs

610 Global Direct Service

611 Global Direct—Mexico

611.1 Description

Global Direct—Mexico is an international mail service that is available on the basis of a service agreement between the Postal Service and a qualifying mailer. Under this service a mailer may enter letter mail, publications, and direct mail items that meet applicable eligibility, makeup, and preparation requirements. The Postal Service transports the items for entry into Mexico's domestic mail system.

611.2 Qualifying Mailers and Mailing Locations

611.21 Qualifying Mailers

Mailers Qualifying mailers must agree to mail a minimum of 750 pounds for delivery to Mexican addresses per mailing per mail category. All tendered mailpieces must conform to the applicable makeup and preparation requirements.

611.22 Mailing Locations

Mailings may be deposited only at the following offices as specified in the service agreement:

New York:

John F. Kennedy Airport Mail Center, John F. Kennedy International Airport Bldg. 250, Jamaica, NY 11430-9998

Florida:

Miami International Service Center,* U.S. Postal Service, 11690 NW. 25th St., Miami, FL 33172-1702

Miami Processing and Distribution Center, U.S. Postal Service, 2200 NW. 72nd Ave., Miami, FL 33152-9997

Texas:

Dallas International Service Center, U.S. Postal Service, 15050 Trinity Blvd., Fort Worth, TX 76155-3203

Illinois:

Chicago O'Hare International Annex, U.S. Postal Service, 514 Express Center Dr., Chicago, IL 60688-9998

California:

San Francisco ISC, U.S. Postal Service, 2650 Bayshore Blvd., Daly City, CA 94013-1631

Worldway Airport Mail Center, U.S. Postal Service, 21750 Arnold Center Rd., Carson, CA 90810-9998

*Only plant-verified mail is transported to these facilities by the mailer.

611.3 Postage

611.31 Rates

The rate of postage is determined by mail category, item weight, and item size.

Letter Mail
Weight of single piece up to: (grams) | Postal coded | Non-postal coded
20 | $0.327 | $0.406
30 | 0.406 | 0.495
40 | 0.420 | 0.510
50 | 0.485 | 0.585
60 | 0.513 | 0.613
70 | 0.578 | 0.688
80 | 0.592 | 0.702
90 | 0.688 | 0.818
100 | 0.702 | 0.832
110 | 0.802 | 0.942
120 | 0.816 | 0.956
130 | 0.830 | 0.970
140 | 0.844 | 0.985
150 | 0.858 | 0.999
160 | 0.873 | 1.013
170 | 0.887 | 1.027
180 | 0.901 | 1.042
190 | 0.915 | 1.056
200 | 0.930 | 1.070
250 | 1.094 | 1.245
300 | 1.165 | 1.316
350 | 1.357 | 1.528
400 | 1.429 | 1.599
450 | 1.611 | 1.802
500 | 1.682 | 1.873
600 | 2.218 | 2.378
700 | 2.360 | 2.521
800 | 2.502 | 2.663
900 | 2.645 | 2.805
1000 | 2.787 | 2.948

Direct Mail A
Weight of single piece up to: (grams) | Postal coded | Non-postal coded
20 | $0.226 | $0.350
30 | 0.283 | 0.437
40 | 0.295 | 0.450
50 | 0.308 | 0.513
60 | 0.364 | 0.539
70 | 0.377 | 0.612
80 | 0.389 | 0.625
90 | 0.402 | 0.687
100 | 0.414 | 0.700
110 | 0.471 | 0.917
120 | 0.484 | 0.930
130 | 0.496 | 0.942
140 | 0.509 | 0.955
150 | 0.521 | 0.967
160 | 0.534 | 0.980
170 | 0.546 | 0.992
180 | 0.559 | 1.005
190 | 0.571 | 1.017
200 | 0.584 | 1.030
250 | 0.717 | 1.195
300 | 0.780 | 1.258
350 | 0.904 | 1.411
400 | 0.967 | 1.473
450 | 1.091 | 1.555
500 | 1.154 | 1.618
600 | 1.367 | 1.882
700 | 1.492 | 2.007
800 | 1.617 | 2.132
900 | 1.742 | 2.257
1000 | 1.867 | 2.382

Direct Mail B
Weight of single piece up to: (grams) | Postal coded
1100 | $3.417
1200 | 3.548
1300 | 3.678
1400 | 3.808
1500 | 3.938
1600 | 4.069
1700 | 4.199
1800 | 4.329
1900 | 4.460
2000 | 4.590
2100 | 5.700
2200 | 5.830
2300 | 5.960
2400 | 6.090
2500 | 6.221
2600 | 6.351
2700 | 6.481
2800 | 6.611
2900 | 6.742
3000 | 6.872
3100 | 7.982
3200 | 8.112
3300 | 8.242
3400 | 8.373
3500 | 8.503
3600 | 8.633
3700 | 8.763
3800 | 8.894
3900 | 9.024
4000 | 9.154
4100 | 10.264
4200 | 10.394
4300 | 10.524
4400 | 10.655
4500 | 10.785
4600 | 10.915
4700 | 11.046
4800 | 11.176
4900 | 11.306
5000 | 11.436

Publications
Weight of single piece up to: (grams) | Postal coded | Non-postal coded
250 | $0.661 | $1.195
300 | 0.723 | 1.258
350 | 0.874 | 1.411
400 | 0.937 | 1.473
450 | 1.019 | 1.555
500 | 1.081 | 1.618
550 | 1.191 | 1.838
600 | 1.235 | 1.882
650 | 1.447 | 1.963
700 | 1.490 | 2.007
750 | 1.572 | 2.088
800 | 1.615 | 2.132
850 | 1.697 | 2.213
900 | 1.740 | 2.257
950 | 1.822 | 2.338
1000 | 1.865 | 2.382
1050 | 2.107 |
1100 | 2.172 |
1150 | 2.237 |
1200 | 2.301 |
1250 | 2.366 |
1300 | 2.430 |
1350 | 2.495 |
1400 | 2.560 |
1450 | 2.624 |
1500 | 2.689 |

611.32 Volume Discount

Global Direct revenue may be added to the ISAL/IPA total for the purpose of determining the discount earned. However, the discount will not be applied to the Global Direct—Mexico published rates.

611.33 Size and Weight Definition

Every item must meet size and weight requirements for its mail category. The size and weight standards are as follows:

Letter Mail
Weight: Maximum | Length: Minimum | Length: Maximum | Width: Minimum | Width: Maximum
1000 grams (35.3 oz.) | 114 mm (4.44 in.) | 458 mm (17.86 in.) | 81 mm (3.16 in.) | 324 mm (12.63 in.)

Direct Mail A
Weight: Maximum | Length: Minimum | Length: Maximum | Width: Minimum | Width: Maximum
1000 grams (35.3 oz.) | 114 mm (4.44 in.) | 458 mm (17.86 in.) | 81 mm (3.16 in.) | 324 mm (12.63 in.)

Direct Mail B
Weight: Minimum | Weight: Maximum | Length: Minimum | Length: Maximum | Width: Minimum | Width: Maximum
Over 1000 grams (35.3 oz.) | 5000 grams (176.3 oz.) | 114 mm (4.44 in.) | 458 mm (17.86 in.) | 81 mm (3.16 in.) | 324 mm (12.63 in.)

Publications
Weight: Maximum | Length: Minimum | Length: Maximum | Width: Minimum | Width: Maximum
1000 grams (35.3 oz.) | 114 mm (4.44 in.) | 458 mm (17.86 in.) | 81 mm (3.16 in.) | 324 mm (12.63 in.)

611.34 Postage Payment Method

Postage must be paid through an advance deposit account. Items must bear an authorized Global Direct—Mexico postal indicia. USPS domestic indicia must not be used.

611.35 Postage Statement

Mailers must complete PS Form 3659, Postage Statement—Global Direct—Mexico. A separate postage statement must be prepared for each individual mailing.

611.36 Preparation Requirements

Sorting requirements for all three categories of mail (letters, publications, direct mail) are identical. Items must be sequenced in ascending postal code order and prepared according to the separations listed in the Global Direct—Mexico sortation plan as in the service guide. Letter-size items must be presented in USPS letter trays. Flat-size items must be presented in bundles. Both letter trays and bundles must be placed on pallets. For specific sorting and labeling requirements for Global Direct—Mexico, instructions will be provided as part of the service agreement.

611.4 Ancillary Services

611.41 Global Direct Mailbox Service

This service provides for the return of Mexican business reply mail to a specific address in Mexico, then the Postal Service forwards items to the mailer in the United States. Detailed specifications for this service will be provided as part of the application process. The rate for this service is $0.40 per item returned.

611.42 Return of Undeliverable Mail

This service provides for the return of letter mail and publications that are undeliverable. Mailers using a Mexican indicia and Mexican return address may have undeliverable items returned to the United States in bulk. The sender must endorse items “Return Requested” and use the return address specified by the Postal Service. The rate for this service is $1.75 per pound or fraction of a pound for the total number of items returned at a single time.

611.5 Service Agreement

Before the first mailing, mailers must submit a completed PS Form 3681, Global Direct Service Agreement, 14 business days prior to their planned mailing date. Concurrent with the establishment of the agreement, instructions are issued to the designated post office of entry regarding the acceptance and verification of the prospective customer's mailpieces.

611.6 Advance Notification

Mailers interested in using Global Direct—Mexico service must complete PS Form 3682, Notification of Mailing, five business days prior to the planned mailing date. PS Form 3682 can be found in Publication 526, Global Direct Service Guide, or on the USPS Web site.

* * * * *

Stanley F. Mires,
Chief Counsel, Legislative.

[FR Doc. 00-23549 Filed 9-15-00; 8:45 am]

BILLING CODE 7710-12-U